DEPARTMENT OF THE INTERIOR

Bureau of Indian Affairs

Notice of Intent To Prepare an Environmental Impact Statement for the Proposed Menominee Nation Casino and Hotel Project, Kenosha, Wisconsin; Correction

AGENCY: Bureau of Indian Affairs, Interior.

ACTION: Notice; correction.

SUMMARY: The Bureau of Indian Affairs (BIA) gave public notice in the Federal Register of June 23, 2004 (69 FR 35058), of a notice of intent to gather information necessary for preparing an Environmental Impact Statement for a proposed casino and hotel project to be located in Kenosha, Wisconsin. The address for the public scoping meeting was in error. This action corrects that error.

FOR FURTHER INFORMATION CONTACT: Herb Nelson, (612) 713-4400, extension 1143.

SUPPLEMENTARY INFORMATION: In the Federal Register document published on June 23, 2004, there was an error in the address of the public scoping meeting. The BIA is correcting the document as follows.

In notice document (FR Doc. 04-14240) make the following correction:

On page 35058, in the second column, under the ADDRESSES section, second paragraph, 4 lines from the bottom of the column, the address for the public scoping meeting should read “3520 30th Avenue, Kenosha, Wisconsin.”

Dated: June 24, 2004.
Woodrow W. Hopper,
Deputy Assistant Secretary—Management.

[FR Doc. 04-15382 Filed 7-6-04; 8:45 am]

BILLING CODE 4310-W7-P